DEPARTMENT OF HEALTH AND HUMAN SERVICES

Centers for Disease Control and Prevention

[30Day-08-0212]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Hospital Discharge Survey—Revision—The National Hospital Discharge Survey (NHDS) (OMB# 0920-0212), National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes the data collection in 2008 and 2009 using the current NHDS design; a pretest of a new design; and data collection for 2010 and 2011 of the survey using the new design.

Current NHDS

The National Hospital Discharge Survey (NHDS) has been conducted continuously by the National Center for Health Statistics, CDC, since 1965. It is the principal source of data on inpatient utilization of short-stay, non-Federal hospitals and is the principal annual source of nationally representative estimates on the characteristics of discharges, the lengths of stay, diagnoses, surgical and non-surgical procedures, and the patterns of use of care in hospitals in various regions of the country. It is the benchmark against which special programmatic data sources are measured. The data items collected are the basic core of the variables contained in the Uniform Hospital Discharge Data Set (UHDDS) in addition to several variables (admission source and type, admitting diagnosis and present on admission indicators) which are identical to those needed for billing of inpatient services for Medicare patients. In the current survey, data are obtained in one of three ways: Abstracted by hospital staff; abstracted by Bureau of the Census Staff under an interagency agreement; and provided in electronic format. Due to budgetary constraints, the number of hospitals and the number of discharges for the 2008 and 2009 NHDS data collections will decrease by approximately 50% from previous years.

Redesigned NHDS

Although the current NHDS is still fulfilling its intended functions, it is based on concepts from the health care delivery system, as well as the hospital and patient universes, of previous decades. It has become clear that a redesign of the NHDS that provides greater depth of information is necessary.

In 2008, a sample of 30 hospitals will be selected for a pretest. These hospitals will not be a probability sample, but instead will be intentionally selected to include hospitals of differing size, location and other characteristics related to their service and patient clientele.

In 2010, a redesigned NHDS will be implemented and will consist of a completely new sample of approximately 240 hospitals. The redesigned NHDS will use a modified two stage design. The first stage sampling will be hospitals. The second stage of sampling will be discharges. A stratified, random sample of 120 discharges is targeted within each hospital. In the redesigned survey all data will be abstracted by trained health care staff under contract. All data will be obtained from hospital records and charts and computer systems.

The current data items will be collected with significant additional details. Patient level data items to be collected include personal identifiers such as social security number (last 4 digits), name and medical record number; clinical laboratory results such as hematocrit and white blood cell count; and financial billing and record data. The survey includes detailed questions for three modules: Acute myocardial infarction; infectious disease; and end of life issues. Facility level data items include demographic information, clinical capabilities, and financial information.

Users of NHDS data include, but are not limited to the CDC; the Congressional Research Office; the Office of the Assistant Secretary for Planning and Evaluation (ASPE); American Health Care Association, Centers for Medicare and Medicaid Services (CMS), and Bureau of the Census. Data collected through the NHDS are essential for evaluating health status of the population, for the planning of programs and policy to elevate the health status of the Nation, for studying morbidity trends, and for research activities in the health field. NHDS data have been used extensively in the development and monitoring of goals for the Year 2000 and 2010 Healthy People Objectives. In addition, NHDS data provide annual updates for numerous tables in the Congressionally-mandated NCHS report, Health, United States. Other users of these data include universities, research organizations, foundations, and a variety of users in the print media. There is no cost to respondents other than their time to participate. The total estimated annualized burden hours are 5,591.

Table 1—Estimated Annualized Burden Hours
Type of data collection | Number of respondents | Number of responses per respondent | Average burden per response (in hours)
Current NHDS Primary Procedure Hospitals Sample Listing Sheet | 13 | 12 | 25/60
Current NHDS Primary Procedure Hospitals Medical Abstract Form | 13 | 250 | 5/60
Current NHDS Primary Procedure Hospitals Transmittal Notice | 13 | 12 | 1/60
Current NHDS Alternate Procedure Hospitals locating medical records | 41 | 250 | 1/60
Current NHDS In-House Tape or Printout Hospital—computer programming and submission | 29 | 12 | 13/60
Current NHDS Hospital Interview Questionnaire | 10 | 1 | 2
Redesigned pretest Survey presentation to hospital | 10 | 1 | 1
Redesigned pretest Facility questionnaire | 10 | 1 | 4
Redesigned pretest Sample discharges within hospital, obtain UB-04 & payment data | 10 | 10 | 14/60
Redesigned pretest Verify sampling & reabstract medical records | 2 | 10 | 14/60
Redesign pretest Debrief hospital staff | 10 | 1 | 1
Redesigned 2010-2011 Survey presentation to hospital | 80 | 1 | 1
Redesigned 2010-2011 Facility questionnaire | 80 | 1 | 4
Redesigned 2010-2011 Sample discharges within hospital, obtain UB-04 & payment data | 160 | 120 | 14/60
Redesigned 2010-2011 Verify sampling & re-abstract medical records | 3 | 25 | 14/60

Dated: July 24, 2008.
Maryam I. Daneshvar,
Acting Reports Clearance Officer, Centers for Disease Control and Prevention.

[FR Doc. E8-17605 Filed 7-31-08; 8:45 am]

BILLING CODE 4163-18-P